DEPARTMENT OF LABOR

Employment and Training Administration

[TA-W-70,535]

NCI-Ceco Building Systems, Rocky Mount, NC; Notice of Termination of Investigation

Pursuant to Section 221 of the Trade Act of 1974, as amended, an investigation was initiated on May 26, 2009, in response to a petition filed on behalf of workers at NCI-Ceco Building Systems, Rocky Mount, North Carolina.

The petitioning group of workers is covered by an earlier petition (TA-W-70,518) filed on May 26, 2009, that is the subject of an ongoing investigation for which a determination has not yet been issued.

Further investigation in this case would serve no purpose, and the investigation under this petition has been terminated.

Signed at Washington, DC, this 17th day of June 2009.
Linda G. Poole,
Certifying Officer, Division of Trade Adjustment Assistance.

[FR Doc. E9-15751 Filed 7-2-09; 8:45 am]

BILLING CODE 4510-FN-P